DEPARTMENT OF AGRICULTURE

National Institute of Food and Agriculture

Solicitation of Input From Stakeholders on the Federally Recognized Tribes Extension Program—FRTEP

AGENCY: National Institute of Food and Agriculture.

ACTION: Correction.

SUMMARY: On December 23, 2019, the National Institute of Food and Agriculture (NIFA) published a notice to request written stakeholder input on the Federally Recognized Tribes Extension Program (FRTEP). The document contained an incorrect email address for the agency point of contact. This document provides a correct email address. Comments on the Federally Recognized Tribes Extension Program must still be received by the agency on or before February 15, 2020 to be assured of consideration.

DATES: Written comments on the Notice must be received by February 15, 2020.

ADDRESSES: You may submit comments, identified by NIFA-2020-0001, through the Federal eRulemaking Portal: http://www.regulations.gov. Follow the instructions for submitting comments. Include NIFA-2020-0001 in the subject line of the message.

Instructions: All submissions received must include the Title, ”Federally Recognized Tribes Extension Program” and NIFA-2020-0001. All comments received will be posted to http://www.regulations.gov, including any personal information provided.

FOR FURTHER INFORMATION CONTACT: Erin Riley 816-926-2131 (phone), erin.riley@usda.gov.

SUPPLEMENTARY INFORMATION:

Need for Correction

On December 23, 2019 (84 FR 70493), the National Institute of Food and Agriculture published a notice to solicit stakeholder input. Under the For Further Information Contact section, an incorrect email address was inadvertently provided. The email address is erin.riley@usda.gov.

Done at Washington, DC, this 13th day of January 2020.
Steve Censky,
Deputy Secretary.

[FR Doc. 2020-01021 Filed 1-22-20; 8:45 am]

BILLING CODE 3410-22-P